DEPARTMENT OF DEFENSE

Office of the Secretary

Independent Review Panel on Military Medical Construction Standards; Notice of Federal Advisory Committee Meeting; Revision

AGENCY: Department of Defense (DoD).

ACTION: Notice of meeting; revision.

SUMMARY: On Tuesday, July 8, 2014, the Department of Defense published a meeting notice titled Independent Review Panel on Military Medical Construction Standards; Notice of Federal Advisory Committee Meeting (79 FR 38522-38523). Subsequent to the publication of that notice, the Department of Defense realized that the original notice did not specify the location for each of the three meeting dates. In addition, the staff at Wilford Hall Ambulatory Surgical Center required modifications to the original times. This notice makes these revisions. The “Agenda” paragraph in the SUPPLEMENTARY INFORMATION section is reprinted with revisions. All other information in the July 8, 2014 notice remains the same.

DATES:

Monday, July 21, 2014

10:00 a.m.-12:15 p.m. CDT (Open Session)

12:15 p.m.-4:00 p.m. CDT (Administrative Working Meeting)

Tuesday, July 22, 2014

8:30 a.m.-12:15 p.m. CDT (Administrative Working Meeting)

12:15 p.m.-2:30 p.m. CDT (Open Session)

Wednesday, July 23, 2014

8:00 a.m.-10:00 a.m. CDT (Open Session)

10:00 a.m.-12:00 p.m. CDT (Administrative Working Meeting)

ADDRESSES: San Antonio Military Medical Center, 3551 Roger Brooke Drive, Fort Sam Houston, Texas 78234 on July 21, 2014. Wilford Hall Ambulatory Surgical Center, 2200 Bergquist Drive, Joint Base San Antonio-Lackland, Texas 78236 on July 22, 2014. Carl R. Darnall Army Medical Center, 36000 Darnall Loop, Fort Hood, Texas 76544 on July 23, 2014.

FOR FURTHER INFORMATION CONTACT: The Director is Ms. Christine Bader, 7700 Arlington Boulevard, Suite 5101, Falls Church, Virginia 22042, christine.bader@dha.mil, (703) 681-6653, Fax: (703) 681-9539. For meeting information, please contact Ms. Kendal Brown, 7700 Arlington Boulevard, Suite 5101, Falls Church, Virginia 22042, kendal.brown.ctr@dha.mil, (703) 681-6670, Fax: (703) 681-9539.

SUPPLEMENTARY INFORMATION:

Agenda

Pursuant to 5 U.S.C. 552b, as amended, and 41 CFR 102-3.140 through 102-3.165 and subject to availability of space, the Panel meeting is open to the public from 10:00 a.m. to 12:15 p.m. on July 21, 12:15 p.m. to 2:30 p.m. on July 22, and 8:00 a.m. to 10:00 a.m. on July 23, 2014, as the Panel will meet with senior military healthcare leaders to discuss facility design standards and benchmarking processes.

Due to difficulties beyond the control of the Department of Defense, the Designated Federal Officer was unable to submit an amended Federal Register notice pertaining to the Independent Review Panel on Military Medical Construction Standards' meeting agenda for its scheduled meeting of July 21-23, 2014, that ensured compliance with the requirements of 41 CFR 102-3.150(a). Accordingly, the Advisory Committee Management Officer for the Department of Defense, waives the 15-calendar day notification requirement pursuant to 41 CFR 102-3.150(b).

Dated: July 15, 2014.
Aaron Siegel,
Alternate OSD Federal Register Liaison Officer, Department of Defense.

[FR Doc. 2014-16947 Filed 7-17-14; 8:45 am]

BILLING CODE 5001-06-P